DEPARTMENT OF HOUSING AND URBAN DEVELOPMENT

[Docket No. FR-5481-N-02]

Environmental Review Procedures for Entities Assuming HUD Environmental Review Responsibilities; Notice of Proposed Information Collection: Comment Request

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: March 28, 2011.

ADDRESSES: Interested persons are invited to submit comments regarding this proposal. Comments should refer to the proposal by name and/or OMB Control Number and should be sent to: Rudene Thomas, Community Planning and Development, Department of Housing and Urban Development, 451 7th Street, SW., Room 7256, Washington, DC 20410-7000.

FOR FURTHER INFORMATION CONTACT: Charles Bien, Acting Director, Office of Environment and Energy, Department of Housing and Urban Development, Room 7250, 451 7th Street, Washington, DC 20410-7000. For telephone communication, contact Jerimiah Sanders, Environmental Review Division, 202-402-4571 or e-mail: Jerimiah.J.Sanders@hud.gov. This is not a toll-free number. Hearing or speech-impaired individuals may access this number via TTY by calling the toll-free Federal Information Relay Service at 1-800-877-8339.

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Environmental Review Procedures for Entities Assuming HUD Environmental Responsibilities.

OMB Control Number: None.

Description of the need for the information and proposed use: The Request for Release of Funds (RROF) is used to document compliance with the National Environmental Policy Act (NEPA) and the related environmental statutes, executive orders, and authorities in accordance with the procedures identified in 24 CFR part 58. Recipients certify compliance and make request for release of funds. The currently approved collection also includes (1) Regulatory waivers of requirements of HUD environmental regulations; and (2) in lieu of hard copy, voluntary use of electronic submissions and notifications.

Frequency of Submission: On occasion.

Agency form numbers, if applicable: HUD-7015.15.

Members of affected public: Primary: Local, State, or Tribal Governments. Others: Public housing agencies, and private non- and for-profit entities.

Estimation of the total numbers of hours needed to prepare the information collection including number of respondents, frequency of response, and hours of response: Estimates are 18,791 respondents, 1 frequency, and .6 hours of response. Annual reporting and recordkeeping hour burden estimate is a total of 11,283 hours.

Status of the proposed information collection: Extension of a currently approved collection.

Authority: The Paperwork Reduction Act of 1995, 44 U.S.C. chapter 35, as amended.

Dated: January 21, 2011.
Clifford Taffet,
General Deputy Assistant Secretary for Community Planning and Development.

[FR Doc. 2011-1803 Filed 1-26-11; 8:45 am]

BILLING CODE 4210-67-P